DEPARTMENT OF ENERGY

Federal Energy Regulatory Commission

Combined Notice of Filings

Take notice that the Commission has received the following Natural Gas Pipeline Rate and Refund Report filings:

Filings Instituting Proceedings

Docket Numbers: RP16-544-000.

Applicants: Southern Natural Gas Company, L.L.C.

Description: Compliance filing Order No. 587-W Compliance to be effective 4/1/2016.

Filed Date: 2/1/16.

Accession Number: 20160201-5441.

Comments Due: 5 p.m. ET 2/16/16.

Docket Numbers: RP16-583-000.

Applicants: Northern Natural Gas Company.

Description: Section 4(d) Rate Filing: 20160203 Negotiated Rate to be effective 2/4/2016.

Filed Date: 2/3/16.

Accession Number: 20160203-5083.

Comments Due: 5 p.m. ET 2/16/16.

Docket Numbers: RP16-584-000.

Applicants: WestGas InterState, Inc.

Description: Compliance filing 20160203_WGI 587-W NAESB Standards to be effective 4/1/2016.

Filed Date: 2/3/16.

Accession Number: 20160203-5170.

Comments Due: 5 p.m. ET 2/16/16.

Docket Numbers: RP16-585-000.

Applicants: Enable Mississippi River Transmission, L.

Description: Section 4(d) Rate Filing: Negotiated Rate Filing to Amend LER 5680's Attachment A_02_03_16 to be effective 2/3/2016.

Filed Date: 2/3/16.

Accession Number: 20160203-5214.

Comments Due: 5 p.m. ET 2/16/16.

Docket Numbers: RP16-586-000.

Applicants: Columbia Gas Transmission, LLC.

Description: Section 4(d) Rate Filing: Neg Rate Service Agmts—Pauley to be effective 2/1/2016.

Filed Date: 2/3/16.

Accession Number: 20160203-5244.

Comments Due: 5 p.m. ET 2/16/16.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

Filings in Existing Proceedings

Docket Numbers: RP15-65-005.

Applicants: Gulf South Pipeline Company, LP.

Description: Compliance filing Settlement Compliance Tariff Records to be effective 3/1/2016.

Filed Date: 1/29/16.

Accession Number: 20160129-5209.

Comments Due: 5 p.m. ET 2/10/16.

Docket Numbers: RP15-1331-001.

Applicants: Texas Eastern Transmission, LP.

Description: Compliance filing Update to Non-conforming Agreements for the OPEN Project.

Filed Date: 2/3/16.

Accession Number: 20160203-5135.

Comments Due: 5 p.m. ET 2/16/16.

Docket Numbers: RP16-576-001.

Applicants: Cimarron River Pipeline, LLC.

Description: Compliance filing NAESB 3.0 Correction Filing to be effective 4/1/2016.

Filed Date: 2/3/16.

Accession Number: 20160203-5237.

Comments Due: 5 p.m. ET 2/16/16.

Docket Numbers: RP16-579-001.

Applicants: Dauphin Island Gathering Partners.

Description: Compliance filing NAESB 3.0 Correction to be effective 4/1/2016.

Filed Date: 2/3/16.

Accession Number: 20160203-5240.

Comments Due: 5 p.m. ET 2/16/16.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: February 4, 2016.
Nathaniel J. Davis, Sr.,
Deputy Secretary.

[FR Doc. 2016-02923 Filed 2-11-16; 8:45 am]

BILLING CODE 6717-01-P